DEPARTMENT OF HEALTH AND HUMAN SERVICES

Centers for Disease Control and Prevention

[60Day-04-61]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Sandra Gambescia, CDC Assistant Reports Clearance Officer, 1600 Clifton Road, MS-E11, Atlanta, GA 30333 or send an e-mail to omb@cdc.gov. Written comments should be received within 60 days of this notice.

Proposed Project

Survey of Public Health Laboratories regarding Volume and Type of STD Laboratory Testing Methods—New—National Center for HIV, STD, and TB Prevention (NCHSTP), Centers for Disease Control and Prevention (CDC). CDC is requesting OMB approval to survey public health laboratories about the volume of testing and type of laboratory testing methods for sexually transmitted diseases (STD).

In October 2002, CDC published “Screening Tests to Detect Chlamydia trachomatis and Neisseria gonorrhoeae Infections,” (MMWR 2002:51, No. RR-15). The purpose of this publication was to provide information for public health laboratories regarding the most effective testing methodologies for Chlamydia trachomatis and Neisseria gonorrhoeae. Because testing practices could affect the resources available to public health departments for STD screening and surveillance programs, it is critical to monitor the capacity and current practices of public health laboratories to appropriately test for these diseases.

The objectives of this proposed data collection are to: (1) Collect information about the volume of and type of testing for chlamydia and gonorrhea during calendar year 2003; (2) collect information about antimicrobial susceptibility testing for gonorrhea; and (3) collect information about the volume and type of testing for herpes simplex virus (HSV), syphilis, human papillomavirus (HPV), bacterial vaginosis, and trichomoniasis performed in laboratories in calendar year 2003. This survey will build on data collected in 2001 by the Association of Public Health Laboratories on laboratory test methods and the volume of testing.

CDC anticipates collecting this data using an on-line survey of 140 public health laboratories. The survey will take approximately 20 minutes to complete. The only cost to respondents is their time to complete the survey.

Annualized Burden Table
Respondents | No. of respondents | No. of responses per respondent | Average burden per response (in hours) | Total burden hours
Public Health Laboratories | 140 | 1 | 20/60 | 47
Total |  |  |  | 47

Dated: June 3, 2004.
Alvin Hall,
Director, Management Analysis and Services Office,Centers for Disease Control and Prevention.

[FR Doc. 04-13007 Filed 6-8-04; 8:45 am]

BILLING CODE 4163-18-P